DEPARTMENT OF TRANSPORTATION

Federal Aviation Administration

Notice of Opportunity for Public Comment on Land Swap at Huntsville International Airport (HSV) Huntsville, Alabama

AGENCY: Federal Aviation Administration, DOT.

ACTION: Notice of intent to rule on land release request.

SUMMARY: The FAA is considering a request from Huntsville-Madison County Airport Authority for a proposed land swap at Huntsville International Airport (HSV). The Land Swap will exchange Boeing Corporation owned (Non-Aeronautical) land of 18.8 acres of Tract R14 (Taxiway Property) for 19.52 acres of Spine Road Tract currently owned by HSV (Aeronautical).

DATES: Comments must be received on or before October 6, 2025.

ADDRESSES: Comments on this notice may be mailed or delivered in triplicate to the FAA at the following address: Jackson Airports District Office Attn: Brian Hendry, Community Planner, 10 Canebrake Blvd., Suite 100, Flowood, MS 39232.

In addition, one copy of any comments submitted to the FAA must be mailed or delivered to Huntsville-Madison County Airport Authority, Attn: Amy Murphree, Chief Legal Officer, 1000 Glenn Hearn Blvd., Huntsville, AL 35824.

FOR FURTHER INFORMATION CONTACT: Brian Hendry, Community Planner, Jackson Airports District Office, 10 Canebrake Blvd., Suite 100, Flowood, MS 39232, (769) 268-6979. The land release request may be reviewed in person at this same location.

SUPPLEMENTARY INFORMATION: The FAA is reviewing a request by the Huntsville-Madison County Airport Authority for a proposed a land swap at Huntsville International Airport (HSV) under the provisions of Title 49, U.S.C. 47153(c).

The Boeing tract (Tract R-14) was originally acquired with Federal Aid to Airports Program (FAAP) grant funds in 1965 to establish the new airport. The FAA determined that the land swap requested at Huntsville International Airport (HSV) submitted by the Sponsor meets the procedural requirements of the Federal Aviation Administration, and the request will benefit HSV by allowing the airport to acquire parcels located along the south side of the existing Taxiway L (Lima) that is better suited for aeronautical development and by ensuring permanent access to the Air Traffic Control Tower area. This request does not and will not impact future aviation needs at the airport. The FAA may approve the request, in whole or in part, no sooner than thirty days after the publication of this notice. The property is located north of Boeing Blvd. SW, south of Taxiway L (Lima) and between the main runways at HSV. In accordance with 49 U.S.C. 47107(c)(2)(B)(i), the airport will receive fair market value for the property, and the net proceeds from the sale of this property will be used for maintenance and improvements at Huntsville International Airport (HSV).

Any person may inspect the request in person at the FAA office listed above under FOR FURTHER INFORMATION CONTACT.

In addition, any person may, upon request, inspect the request, notice and other documents germane to the request in person at the Huntsville International Airport (HSV).

Issued in Jackson, Mississippi on September 4, 2025.
William J. Schuller,
Acting Manager, Jackson Airports District Office, Southern Region.

[FR Doc. 2025-17032 Filed 9-4-25; 8:45 am]

BILLING CODE 4910-13-P